DEPARTMENT OF TRANSPORTATION

Office of the Secretary

Notice of Applications for Certificates of Public Convenience and Necessity and Foreign Air Carrier Permits Filed Under Subpart B (Formerly Subpart Q) During the Week Ending September 6, 2014

The following Applications for Certificates of Public Convenience and Necessity and Foreign Air Carrier Permits were filed under Subpart B (formerly Subpart Q) of the Department of Transportation's Procedural Regulations (See 14 CFR 302.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0152.

Date Filed: September 2, 2014.

Due Date for Answers, Conforming Applications, or Motion to Modify Scope: September 23, 2014.

Description: Application of Caribbean Sun Airlines, Inc. d/b/a World Atlantic Airlines (“World Atlantic”) requesting a certificate of public convenience and necessity authorizing World Atlantic to engage in interstate charter air transportation of persons, property, and mail.

Barbara J. Hairston,
Supervisory Dockets Officer, Docket Operations, Federal Register Liaison.

[FR Doc. 2014-22146 Filed 9-24-14; 8:45 am]

BILLING CODE 4910-9X-P